DEPARTMENT OF TRANSPORTATION

Federal Aviation Administration

Notice of Passenger Facility Charge (PFC) Approvals and Disapprovals

AGENCY: Federal Aviation Administration (FAA), DOT.

ACTION: Monthly Notice of PFC Approvals and Disapprovals. In August 2004, there were two applications approved. This notice also includes information on one application, approved in July 2004, inadvertently left off the July 2004 notice. Additionally, 11 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR part 158). This notice is published pursuant to paragraph d of § 158.29.

PFC Applications Approved

Public Agency: Columbus Regional Airport Authority, Columbus, Ohio.

Application Number: 04-07-C-00-CMH.

Application Type: Impose and use a PFC.

PFC Level: $4.50.

Total PFC Revenue Approved in this Decision: $77,562,914.

Earliest Charge Effective Date: October 1, 2004.

Estimated Charge Expiration Date: December 1, 2009.

Class of Air Carriers Not Required to Collect PFC's: Air taxi/commercial operators when enplaning revenue passengers in service and equipment reportable to FAA on FAA Form 1800-31.

Determination: Approved. Based on information contained in the public agency's application, the FAA has determined that the proposed class accounts for less than 1 percent on the total annual enplanements at Ports Columbus International Airport.

Brief Description of Projects Approved for Collection and Use at a $3.00 PFC Level:

Terminal and curb front signage improvements.

Flight information display system/baggage information display system improvements/upgrade and public address system improvements.

PFC program formulation and administrative.

Snow removal equipment—runway brooms.

Snow removal equipment—heavy trucks.

Brief Description of Projects Approved for Collection and Use at a $4.50 PFC Level:

Concourse C—apron expansion/taxiway.

Concourse C—five gate expansion.

Runway 10R hold apron relocation.

West extension of taxiway B.

Runway 10R glide slope relocation.

Taxiway C rehabilitation.

Antenna farm relocation.

Terminal apron rehabilitation/glycol collection.

Perimeter and tug roads—phase 1.

Runway 10R/28L rehabilitation.

Runway 10R/28L safety area improvements.

Stelzer Road and other airfield safety fencing.

East apron rehabilitation.

Safety area improvements on taxiway E.

International gate/federal inspection services expansion.

Rehabilitate east portion of Lane fixed base operator apron.

Access control system replacement.

Decision Date: July 30, 2004.

FOR FURTHER INFORMATION CONTACT: Jason K. Watt, Detroit Airports District Office, (734) 229-2906.

Public Agency: Airport Authority of Washoe County, Reno, Nevada.

Application Number: 04-08-C-00-RNO.

Application Type: Impose and use of PFC.

Total PFC Revenue Approved in this Decision: $25,440,000.

PFC Level: $3.00.

Earliest Charge Effective Date: December 1, 2004.

Estimated Charge Expiration Date: April 1, 2005.

PFC Level: $4.50.

Earliest Charge Effective Date: April 1, 2005.

Estimated Charge Expiration Date: January 1, 2008.

Class of Air Carriers Not Required to Collect PFC's: Nonscheduled/on-demand air carriers filing FAA Form 1800-31.

Determination: Approved. Based on information contained in the public agency's application, the FAA has determined that the proposed class accounts for less than 1 percent of the total annual enplanements at Reno/Tahoe International Airport.

Brief Description of Project Approved for Collection and Use at a $4.50 PFC Level: Checked baggage security screening system.

Brief Description of Project Approved for Collection and Use at a $3.00 PFC Level: Second floor concourse restroom expansion.

Decision Date: August 23, 2004.

FOR FURTHER INFORMATION CONTACT: Joseph Rodriguez, San Francisco Airports District Office, (650) 876-2805.

Public Agency: New Orleans Aviation Board, New Orleans, Louisiana.

Application Number: 04-07-C-00-MSY.

Application Type: Impose and use a PFC.

PFC Level: $4.50.

Total PFC Revenue Approved in this Decision: $60,199,838.

Earliest Charge Effective Date: May 1, 2011.

Estimated Charge Expiration Date: March 1, 2014.

Class of Air Carriers Not Required to Collect PFC's: Nonscheduled/on-demand air carriers filing FAA Form 1800-31.

Determination: Approved. Based on information contained in the public agency's application, the FAA has determined that the proposed class accounts for less than 1 percent of the total annual enplanements at Louis Armstrong New Orleans International Airport.

Brief Description of Projects Approved for Collection and Use at a $3.00 PFC Level:

Airport interior signage.

Exterior terminal renovations—lower roadway.

Gate utilization study.

Terminal heating, ventilation, and air conditioning rehabilitation, phase II.

Terminal pedestrian access enhancements.

Airport master plan.

Replace apron high mast lighting.

Terminal heating ventilation, and air conditioning rehabilitation, phase III.

Terminal interior and exterior improvements.

Transportation center expansion.

Brief Description of Projects Approved for Collection and Use at a $4.50 PFC Level:

Concourse C checkpoint expansion.

Construct connector taxiway U.

Construct holding bay—runway 19.

Federal inspection services facility.

Transportation Security Administration—related terminal modifications.

Part 1542 security system.

Residential sound insulation program/land acquisition.

Terminal apron expansion.

Brief Description of Withdrawn Projects: Noise mitigation flight tracking system.

Determination: This project was withdrawn by the public agency on June 24, 2004. Concourses A and B terminal reflooring.

Determination: This project was withdrawn by the public agency on August 24, 2004.

Decision Date: August 26, 2004.

FOR FURTHER INFORMATION CONTACT: G. Thomas Wade, Southwest Region Airports Division, (871) 222-5613.

Amendments to PFC approvals
Amendment No. City, State | Amendment approved date | Original approved net PFC revenue | Amended approved net PFC revenue | Original estimated charge exp. date | Amended estimated charge exp. date
97-01-C-03-ATL Atlanta, GA | 06/17/04 | $944,143,576 | $1,463,359,982 | 05/01/05 | 10/01/08
00-02-U-01-ATL Atlanta, GA | 06/17.04 | NA | NA | 05/01/05 | 10/01/08
92-01-C-03-PSP Palm Spring, CA | 07/23/04 | 76,883,179 | 88,415,656 | 07/01/24 | 07/01/29
*91-01-C-05-LAS Las Vegas, NV | 08/16/04 | 1,052,934,909 | 1,052,934,909 | 09/01/14 | 07/01/11
93-02-C-02-LAS Las Vegas, NV | 08/16/04 | 21,496,000 | 21,496,000 | 02/01/16 | 02/01/16
94-03-U-01-LAS Las Vegas, NV | 08/16/04 | NA | NA | 09/01/14 | 07/01/11
94-04-C-01-LAS Las Vegas, NV | 08/16/04 | 510,808,093 | 510,808,093 | 11/01/24 | 11/01/24
93-02-C-03-LAS Las Vegas, NV | 08/16/04 | 21,496,000 | 21,496,000 | 02/01/16 | 11/01/11
94-03-U-02-LAS Las Vegas, NV | 08/16/04 | NA | NA | 02/01/16 | 11/01/11
*94-04-c-02-LAS Las Vegas, NV | 08/16.04 | 510,808,093 | 510,808,093 | 11/01/24 | 01/01/17
01-05-C-02-DFW Dallas/Ft. Worth, TX | 08/16/04 | 1,681,378,289 | 2,191,494,482 | 05/01/13 | 07/01/15
Note: The amendment denoted by an asterisk (*) includes a change to the PFC level charged from $3.00 per enplaned passenger to $4.50 per enplaned passenger. For Las Vegas, NV, this change is effective on November 1, 2004.

Issued in Washington, DC on September 23, 2004.
JoAnn Horne,
Manager, Financial Analysis and Passenger Facility Charge Branch.

[FR Doc. 04-21867 Filed 9-28-04; 8:45 am]

BILLING CODE 4910-13-M